DEPARTMENT OF ENERGY

Federal Energy Regulatory Commission

Combined Notice of Filings

Take notice that the Commission has received the following Natural Gas Pipeline Rate and Refund Report filings:

Filings Instituting Proceedings

Docket Numbers: PR22-25-000.

Applicants: Louisville Gas and Electric Company.

Description: Submits tariff filing per 284.123(b),(e)/: Revised Statement of Operating Conditions Rate Change to be effective 2/1/2022.

Filed Date: 2/22/2022.

Accession Number: 20220222-5197.

Comment/Protest Due: 5 pm ET 3/15/22.

Docket Numbers: RP22-575-000.

Applicants: Golden Pass Pipeline LLC.

Description: Compliance filing: Golden Pass Pipeline LLC Annual Retainage Report 2022 to be effective 4/1/2022.

Filed Date: 2/22/22.

Accession Number: 20220222-5143.

Comment Date: 5 pm ET 3/7/22.

Docket Numbers: RP22-576-000.

Applicants: Six One Commodities LLC.

Description: Petition for Temporary Waiver of Capacity Release Regulations, et al. of Six One Commodities LLC.

Filed Date: 2/22/22.

Accession Number: 20220222-5264.

Comment Date: 5 pm ET 3/7/22.

Docket Numbers: RP22-577-000.

Applicants: Dauphin Island Gathering Partners.

Description: § 4(d) Rate Filing: Negotiated Rate Filing 2-22-2022 to be effective 2/22/2022.

Filed Date: 2/22/22.

Accession Number: 20220222-5275.

Comment Date: 5 pm ET 3/7/22.

Docket Numbers: RP22-578-000.

Applicants: Florida Gas Transmission Company, LLC.

Description: § 4(d) Rate Filing: Amendment No 1 Contracts 122314 and 122315 to be effective 9/1/2021.

Filed Date: 2/22/22.

Accession Number: 20220222-5280.

Comment Date: 5 pm ET 3/7/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP19-1426-008.

Applicants: National Fuel Gas Supply Corporation.

Description: Compliance filing: Period 2 Settlement Rates (RP19-1426) to be effective 4/1/2022.

Filed Date: 2/22/22.

Accession Number: 20220222-5271.

Comment Date: 5 pm ET 3/7/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 23, 2022.
Debbie-Anne A. Reese,
Deputy Secretary.

[FR Doc. 2022-04248 Filed 2-28-22; 8:45 am]

BILLING CODE 6717-01-P